FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 15837N.

Name: Air Sea Containers, Inc.

Address: 2749 NW 82nd Avenue, Miami, FL 33122.

Date Revoked: May 12, 2002.

Reason: Failed to maintain a valid bond.

License Number: 17180F.

Name: American Logistic Co. Inc.

Address: 10840 Warner Avenue, Suite 205, Fountain Valley, CA 92708.

Date Revoked: May 23, 2002.

Reason: Failed to maintain a valid bond.

License Number: 10743NF.

Name: Edward M. Jones & Company, Inc.

Address: 2580 South 156th, Transiplex Bldg. A, Room 105, Seatac, WA 98158.

Date Revoked: May 17, 2002.

Reason: Failed to maintain valid bonds.

License Number: 16426N.

Name: First Express International Corp.

Address: 148-36 Guy R. Brewer Blvd., Suite 200, Jamaica, NY 11434.

Date Revoked: May 25, 2002.

Reason: Failed to maintain a valid bond.

License Number: 17200F.

Name: Global Forwarding Corp.

Address: 10420 NW 37th Terrace, Miami, FL 33178.

Date Revoked: May 12, 2002.

Reason: Failed to maintain a valid bond.

License Number: 4297F.

Name: Latin American Brokers, Inc.

Address: 1150 NW 72nd Avenue, #420, Miami, FL 33126.

Date Revoked: May 25, 2002.

Reason: Failed to maintain a valid bond.

License Number: 15102N.

Name: Oceanic Cargo, Inc.

Address: 10050 NW 116th Way, Suite 15, Medley, FL 33178.

Date Revoked: May 15, 2002.

Reason: Failed to maintain a valid bond.

License Number: 6053N.

Name: Sino-Am Marine Company, Inc.

Address: 601 East Linden Avenue, Linden, NJ 07036.

Date Revoked: May 25, 2002.

Reason: Failed to maintain a valid bond.

License Number: 3610NF.

Name: Sorenna.

Address: 3051 E. Maria Street, Rancho Dominguez, CA 90221.

Date Revoked: May 25, 2002.

Reason: Failed to maintain valid bonds.

License Number: 15030N.

Name: Super Container Line, Inc.

Address: 2801 NW 74th Avenue, Suite 223, Box 49, Miami, FL 33122.

Date Revoked: May 12, 2002.

Reason: Failed to maintain a valid bond.

License Number: 4144F.

Name: Trade Management Services, Inc.

Address: 3105 Silby Memorial Hwy., Eagan, MN 55121.

Date Revoked: May 23, 2002.

Reason: Failed to maintain a valid bond.

License Number: 16237N.

Name: Trans-Union Container Line, Inc.

Address: 5250 W. Century Blvd., Suite 312, Los Angeles, CA 90045.

Date Revoked: June 6, 2002.

Reason: Failed to maintain a valid bond.

License Number: 15460N.

Name: Trident Line Corp.

Address: 1200 Fuller Road, Linden, NJ 07036.

Date Revoked: May 12, 2002.

Reason: Failed to maintain a valid bond.

License Number: 13778N.

Name: Triton Shipping Co., Inc.

Address: 8081 NW 67th Street, Miami, FL 33166.

Date Revoked: May 25, 2002.

Reason: Failed to maintain a valid bond.

License Number: 2308F.

Name: United Van Lines International, Inc.

Address: One United Drive, Fenton, MO 63026.

Date Revoked: May 31, 2002.

Reason: Failed to maintain a valid bond.

License Number: 17354N.

Name: Wingar Logistics Inc.

Address: 9690 Telstar Avenue, Suite 207, El Monte, CA 91731.

Date Revoked: May 25, 2002.

Reason: Failed to maintain a valid bond.

Sandra L. Kusumoto,
Director, Bureau of Consumer Complaints and Licensing.

[FR Doc. 02-16207 Filed 6-26-02; 8:45 am]

BILLING CODE 6730-01-P